DEPARTMENT OF EDUCATION

Notice of Submission for OMB Review

AGENCY: Department of Education.

ACTION: Comment request.

SUMMARY: The Director, Information Collection Clearance Division, Privacy, Information and Records Management Services, Office of Management, invites comments on the submission for OMB review as required by the Paperwork Reduction Act of 1995 (Pub. L. 104-13).

DATES: Interested persons are invited to submit comments on or before October 11, 2011.

ADDRESSES: Written comments should be addressed to the Office of Information and Regulatory Affairs, Attention: Education Desk Officer, Office of Management and Budget, 725 17th Street, NW., Room 10222, New Executive Office Building, Washington, DC 20503, be faxed to (202) 395-5806 or e-mailed to oira_submission@omb.eop.gov with a cc: to ICDocketMgr@ed.gov. Please note that written comments received in response to this notice will be considered public records.

SUPPLEMENTARY INFORMATION: Section 3506 of the Paperwork Reduction Act of 1995 (44 U.S.C. Chapter 35) requires that the Office of Management and Budget (OMB) provide interested Federal agencies and the public an early opportunity to comment on information collection requests. The OMB is particularly interested in comments which: (1) Evaluate whether the proposed collection of information is necessary for the proper performance of the functions of the agency, including whether the information will have practical utility; (2) Evaluate the accuracy of the agency's estimate of the burden of the proposed collection of information, including the validity of the methodology and assumptions used; (3) Enhance the quality, utility, and clarity of the information to be collected; and (4) Minimize the burden of the collection of information on those who are to respond, including through the use of appropriate automated, electronic, mechanical, or other technological collection techniques or other forms of information technology.

Dated: September 1, 2011.
Darrin King,
Director, Information Collection Clearance Division, Privacy, Information and Records Management Services, Office of Management.

Office of Special Education and Rehabilitative Services

Type of Review: Revision.

Title of Collection: Annual Progress Report for the Access to Telework Program under the Rehabilitation Act of 1973, as Amended.

OMB Control Number: 1820-0687.

Agency Form Number(s): N/A.

Frequency of Responses: Annually.

Affected Public: State, Local or Tribal Government.

Total Estimated Number of Annual Responses: 19.

Total Estimated Annual Burden Hours: 219.

Abstract: Nineteen states currently have Access to Telework programs that provide financial loans to individuals with disabilities for the purchase of computers and other equipment that support teleworking for an employer or self-employment on a full or part-time basis. These grantees are required to report annual data on their programs to the Rehabilitation Services Administration. This information collection provides a standard format for the submission of those annual performance reports and a follow-up survey to be administered to individuals who receive loans.

The proposed instrument eliminates an entire section of optional information that is not required for submission by the Telework grantees, further reducing the burden from approximately 12.5 hours to 11 hours per state. Section C. Telework Optional Data Elements, which are not annual reporting requirements for the Telework grantees, has been proposed for removal from the current instrument. The information collected in this optional data section includes: 1. Types of Telework programs (partnership loans or revolving loans), 2. Interest Rates (lowest and highest interest rates established by policy), 3. Loan Amounts (lowest and highest loan amounts established by policy), 4. Repayment Terms (shortest and longest repayment terms established by policy), and Loan Guarantee Requirement, the percentage of the loans that must be repaid by the alternative financing program to the lender in case of default as established by the agreement with the lender. Since the data reported under C. Telework Optional Data Elements of the current instrument is not required, grantees did not report this information uniformly across programs. If every grantee doesn't report in this section, then the data can't be reported in aggregate form. This optional section contains information about program features and descriptions that may or may not change on an annual basis. Since there is limited utility to the annual reporting of this optional information, the decision was made to further reduce the burden to all grantees by eliminating this section from the current instrument in the Management Information System.

Copies of the information collection submission for OMB review may be accessed from the RegInfo.gov Web site at http://www.reginfo.gov/public/do/PRAMain or from the Department's Web site at http://edicsweb.ed.gov, by selecting the “Browse Pending Collections” link and by clicking on link number 4657. When you access the information collection, click on “Download Attachments ” to view. Written requests for information should be addressed to U.S. Department of Education, 400 Maryland Avenue, SW., LBJ, Washington, DC 20202-4537. Requests may also be electronically mailed to the Internet address ICDocketMgr@ed.gov or faxed to 202-401-0920. Please specify the complete title of the information collection and OMB Control Number when making your request.

Individuals who use a telecommunications device for the deaf (TDD) may call the Federal Information Relay Service (FIRS) at 1-800-877-8339.

[FR Doc. 2011-22974 Filed 9-7-11; 8:45 am]

BILLING CODE 4000-01-P